SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before February 19, 2021.

ADDRESSES: Send all comments to Kelly Templeton Financial Analyst, Office of Portfolio Management and Office of Financial Program Operations, Small Business Administration.

FOR FURTHER INFORMATION CONTACT: Kelly Templeton Financial Analyst, Office of Portfolio Management and Office of Financial Program Operations, phone number 1-800-736-6048 extension 7194 or kelly.templeton@sba.gov, or Curtis B. Rich, Management Analyst, curtis.rich@sba.gov.

SUPPLEMENTARY INFORMATION: SBA has authority under SOP 50 52 to request documentation to support loan servicing requests from borrowers or guarantors in SBA's disaster loan program. The requested documentation provided by debtors is a prerequisite to such servicing actions. SBA uses the information in making a determination regarding the repayment and or change of the loan and other liquidation proceedings, including litigation by the Agency and/or the Department of Justice.

Solicitation of Public Comments: SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Titles:

1. Assumption Requirements Letter

2. Collateral Release Requirements Letter

3. Liquidation Hardship Relief Requirements Letter

4. Offer in Compromise Requirements Letter

5. Release of Guarantor Requirements Letter

6. Subordination Requirements Letter

7. Substitution of Collateral Requirements Letter

8. Substitution of Guarantor Requirements Letter

9. Work-Out Relief Requirements Letter

Description of Respondents: Debtors in SBA Disaster Loan Program.

Total Estimated Number of Respondents: 15,000.

Total Estimated Annual Responses: 15,000.

Total Estimated Annual Hour Burden: 5,000.

Curtis Rich,
Management Analyst.

[FR Doc. 2020-28075 Filed 12-18-20; 8:45 am]

BILLING CODE 8026-03-P